DEPARTMENT OF THE INTERIOR

National Park Service

General Management Plan and Environmental Impact Statement, Effigy Mounds National Monument, IA

AGENCY: National Park Service, Department of the Interior.

ACTION: Notice of intent to prepare an environmental impact statement for the general management plan, Effigy Mounds National Monument.

SUMMARY: Pursuant to the National Environmental Policy Act of 1969, 42 U.S.C. 4332(C), the National Park Service (NPS) is preparing an environmental impact statement for a general management plan for Effigy Mounds National Monument, Iowa. The environmental impact statement will be approved by the Director, Midwest Region.

The general management plan will prescribe the resource conditions and visitor experiences that are to be achieved and maintained in the monument over the next 15 to 20 years. The clarification of what must be achieved according to law and policy will be based on review of the monument's purpose, significance, special mandates, and the body of laws and policies directing park management. Based on determinations of desired conditions, the general management plan will outline the kinds of resource management activities, visitor activities, and development that would be appropriate in the future. A range of reasonable management alternatives will be developed through this planning process and will include, at a minimum, no-action and the preferred alternative.

Major issues to be addressed in the plan include: Cultural and natural resources of the park, visitor use of facilities and programs, staff access for resource patrols and visitor protection, trail development, vegetation control, management of threatened and endangered species, management of the Yellow River, and land protection.

DATES: Any comments on the scope of issues to be addressed in the EIS should be received no later than December 30, 2005. Public meetings regarding the general management plan will be held during the scoping period. Specific dates, times, and locations will be made available in the local media, on the Effigy Mounds National Monument Web site (http://www.nps.gov/efmo), on the NPS Planning, Environment and Public Comment (PEPC) Web site (parkplanning.nps.gov/publicHome.cfm), or by contacting the Superintendent.

ADDRESSES: Information on the planning process and copies of newsletters will be available from the office of the Superintendent, 151 Highway 76, Harpers Ferry, Iowa 52146-7519.

FOR FURTHER INFORMATION CONTACT: Superintendent Phyllis Ewing, Effigy Mounds National Monument, 151 Highway 76, Harpers Ferry, Iowa 52146-7519, telephone 563-873-3491.

SUPPLEMENTARY INFORMATION: If you wish to comment on any issues associated with the plan, you may submit your comments by any one of several methods. You may mail comments to: Effigy Mounds National Monument, 151 Highway 76, Harpers Ferry, Iowa 52146-7519. You may also comment via e-mail to efmo_superintendent@nps.gov. Please submit e-mail comments as a text file avoiding the use of special characters and any form of encryption. Be sure to include your name and return street address in your Internet message. You may provide comments electronically by entering them into the PEPC Web site at the address above. Finally, you may hand-deliver comments to the monument headquarters located three miles north of Marquette, Iowa, on Highway 76.

Our practice is to make comments, including names and home addresses of respondents, available for public review during regular business hours. Individual respondents may request that we withhold their home address from the record, which we will honor to the extent allowable by law. There also may be circumstances in which we would withhold from the record a respondent's identity, as allowable by law. If you wish us to withhold your address, you must state this prominently at the beginning of your comment. We will make all submissions from organizations or businesses, and from individuals identifying themselves as representatives or officials of organizations or businesses, available for public inspection in their entirety.

Dated: April 29, 2005.
Ernest Quintana,
Director, Midwest Region.

[FR Doc. 05-11140 Filed 6-3-05; 8:45 am]

BILLING CODE 4310-70-P